DEPARTMENT OF TRANSPORTATION

Federal Transit Administration

Transfer of Federally Assisted Land or Facility

AGENCY: Federal Transit Administration, DOT.

ACTION: Notice of proposed transfer of federally assisted land or facility.

SUMMARY: The Federal Transit Administration (FTA) is issuing this notice to inform other Federal agencies that FTA intends to authorize the Greater Lynchburg Transit Company to convey certain property in Lynchburg, Virginia (Property), to the City of Lynchburg Police Department, if there is no interest in acquiring the Property for Federal Government use.

DATES: Any Federal agency interested in acquiring the Property must notify the FTA Region 3 office of its interest not later than February 23, 2018.

ADDRESSES: Federal agencies should notify the FTA Region 3 office of their interest by writing to Regional Administrator Theresa Garcia Crews, Federal Transit Administration, 1760 Market Street, Suite 500, Philadelphia, PA 19103.

FOR FURTHER INFORMATION CONTACT: Christopher T. Hall, Acting Regional Counsel, at (202) 366-5218.

SUPPLEMENTARY INFORMATION:

Background

If a recipient of Federal transit assistance under 49 U.S.C. Chapter 53 decides an asset acquired at least in part with that assistance is no longer needed for the purpose for which it was acquired, the Secretary of Transportation may authorize the recipient to transfer the asset to a local governmental authority to be used for a public purpose with no further obligation to the Government if (A) the asset will remain in public use for at least 5 years after the date the asset is transferred; (B) there is no purpose eligible for assistance under this chapter for which the asset should be used; (C) the overall benefit of allowing the transfer is greater than the interest of the Government in liquidation and return of the financial interest of the Government in the asset, after considering fair market value and other factors; and (D) through an appropriate screening or survey process, that there is no interest in acquiring the asset for Government use if the asset is a facility or land. 49 U.S.C. 5334(h)(1). If the asset is a facility or land, the Secretary may authorize a transfer for a public purpose other than public transportation only if the Secretary decides, through an appropriate screening or survey process, that there is no interest in acquiring the asset for Government use. 49 U.S.C. 5334(h)(1)(D).

The Property

The Property is parcel number 02701002, located at 1305 Kemper Street, Lynchburg, Virginia. The Property is 0.883 acres situated in an area zoned light industrial. The Property bears a one-story masonry office building of approximately 16,000 square feet constructed in 1953.

Federal Interest in Acquiring the Property

FTA has determined that the proposed transfer from the Greater Lynchburg Transit Company to the City of Lynchburg Police Department otherwise satisfies the requirements of 49 U.S.C. 5334(h)(1). This Notice serves the purpose of an appropriate screening or survey process to determine whether there is interest in acquiring the Property for Government use. Any Federal agency interested in acquiring the Property should notify FTA as described above.

Theresa Garcia Crews,
Regional Administrator, FTA Region 3.

[FR Doc. 2018-01238 Filed 1-23-18; 8:45 am]

BILLING CODE P